DEPARTMENT OF COMMERCE

National Oceanic and Atmospheric Administration

[I.D. 012401B]

South Atlantic Fishery Management Council; Public Meeting

AGENCY: National Marine Fisheries Service (NMFS), National Oceanic and Atmospheric Administration (NOAA), Commerce.

ACTION: Notice of public meeting

SUMMARY: The South Atlantic Fishery Management Council will hold a meeting of its Snapper Grouper Assessment Group in Atlantic Beach, FL.

DATES: The Snapper Grouper Assessment Group will meet February 20, 2001, from 1 p.m. until 5 p.m. and on February 21, 2001, from 8:30 a.m. until 5 p.m.

ADDRESSES: These meetings will be held at the Sea Turtle Inn, One Ocean Boulevard, Atlantic Beach, FL 32233; telephone: (904) 249-7402; fax: (904) 247-1517.

FOR FURTHER INFORMATION CONTACT: Kim Iverson, Public Information Officer; telephone: (843) 571-4366; fax: (843) 769-4520; email: kim.iverson@noaa.gov.

SUPPLEMENTARY INFORMATION: The Assessment Group will meet February 20-21, 2001 to address several issues including: Maximum Sustainable Yield (MSY), Optimum Yield (OY) and overfishing specifications for species in the snapper grouper complex; manuscripts regarding an assessment and projections for red porgy; a powerhead gear framework document; updated trends analysis; white grunt assessment inclucing age and growth data; gray snapper age and growth data; a compliance report regarding size limits; snowy grouper and golden tilefish assessment and management including the Total Allowable Catch (TAC) and the wreckfish TAC.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to the Council office (see ADDRESSES) by February 12, 2001.

Dated: January 24, 2001.
Richard W. Surdi,
Acting Director, Office of Sustainable Fisheries, National Marine Fisheries Service.

[FR Doc. 01-2576 Filed 1-29-01; 8:45 am]

BILLING CODE 3510-22-S